DEPARTMENT OF HOMELAND SECURITY

United States Immigration and Customs Enforcement

Agency Information Collection Activities: Revision of an Existing Information Collection; Comment Request

ACTION: 60-Day Notice of Information Collection for Review; Secure Communities IDENT/IAFIS Interoperability State and Local Agency Assessment; OMB Control No. 1653-0040.

The Department of Homeland Security, U.S. Immigration and Customs Enforcement (ICE), will be submitting the following information collection request for review and clearance in accordance with the Paperwork Reduction Act of 1995. The information collection is published to obtain comments from the public and affected agencies. Comments are encouraged and will be accepted for sixty days until May 31, 2011.

Written comments and suggestions regarding items contained in this notice, and especially with regard to the estimated public burden and associated response time should be directed to the Office of the Chief Financial Officer/OAA/Records Branch, U.S. Immigration and Customs Enforcement, 500 12th Street, SW., STOP 5705 Washington, DC 20536-5705.

Comments are encouraged and will be accepted for sixty days until May 31, 2011. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved information collection.

(2) Title of the Form/Collection: Secure Communities IDENT/IAFIS Interoperability State and Local Agency Assessment.

(3) Agency form number, if any, and the applicable component of the Department of Homeland Security sponsoring the collection: Form 70-003, Form 70-004, Form 75-001 and Form 75-002; U.S. Immigration and Customs Enforcement.

(4) Affected public who will be asked or required to respond, as well as a brief abstract: Primary: State and Local Correctional Facilities and Officials. 8 U.S.C. 1231(a) gives the Department of Homeland Security (DHS), U.S. Immigration and Customs Enforcement (ICE) authority to remove criminal aliens who have been ordered as such. DHS/ICE is improving community safety by transforming the way the Federal government cooperates with state and local law enforcement agencies to identify, detain, and remove all criminal aliens held in custody. Secure Communities revolutionizes immigration enforcement by using technology to share information between law enforcement agencies and applying risk-based methodologies to focus resources on assisting all local communities remove high-risk criminal aliens. In order for the Secure Communities Initiatives to meet its goals, ICE must collect detailed business requirements and input from its state and local law enforcement partners. This assessment determines the fingerprint procedures and technological capabilities of state and local jails governance, as well as basic jail booking statistics. This information is used in order to prioritize local sites and deliver the implementation strategy of the Secure Communities Initiative.

(5) An estimate of the total number of respondents and the amount of time estimated for an average respondent to respond:

No. of respondents | Form name/Form No. | Average burden per response (in hours)
3,500 | Secure Communities Initiative Survey—State/Form 70-003 | 0.3333
3,500 | Secure Communities Initiative Survey—Local/Form 70-004 | 0.3333
300 | Secure Communities Initiative Survey—DOC Facilities 75-001 | 0.3333
56 | Secure Communities Initiative Survey—DOC Officials/Form 75-002 | 0.3333

(6) An estimate of the total public burden (in hours) associated with the collection: 2,453 annual burden hours.

Comments and/or questions; requests for a copy of the proposed information collection instrument, with instructions; or inquiries for additional information should be directed to: Office of the Chief Financial Officer/OAA/Records Branch, U.S. Immigration and Customs Enforcement, 500 12th Street, SW., STOP 5705 Washington, DC 20536-5705.

Dated: March 25, 2011.
John Ramsay,
Forms Program Manager, Office of Asset Administration, U.S. Immigration and Customs Enforcement, Department of Homeland Security.

[FR Doc. 2011-7550 Filed 3-30-11; 8:45 am]

BILLING CODE 9111-28-P